FEDERAL COMMUNICATIONS COMMISSION

47 CFR Part 20

[CC Docket No. 94-102; IB Docket No. 99-67; FCC 02-326]

Basic and Enhanced 911 Provision by Currently Exempt Wireless and Wireline Services

AGENCY: Federal Communications Commission.

ACTION: Notice of proposed rulemaking.

SUMMARY: This document initiates a reevaluation of the scope of communications services that should provide access to basic and enhanced emergency services. The action is needed to establish a record on which to decide whether remains appropriate to continue to exempt certain wireless and wireline service providers from 911 and Enhanced 911 (E911) regulations and requirements.

DATES: Comments are due on or before February 3, 2003. Reply Comments are due on or before February 28, 2003.

FOR FURTHER INFORMATION CONTACT: Gregory W. Guice, Attorney Advisor, Policy Division, (202) 418-0095; David Siehl, Attorney Advisor, Policy Division, (202) 418-1313; Arthur Lechtman, Attorney Advisor, Policy Branch, (202) 418-1465.

SUPPLEMENTARY INFORMATION: This is a summary of the Commission's Further Notice of Proposed Rulemaking, (FNPRM) released December 20, 2002 (FCC 02-326). The full text of the FNPRM available for inspection and copying during normal business hours in the FCC Reference Center, Room CY-A257, 445 12th Street, SW., Washington, DC 20554. The complete text also may be purchased from the Commission's copy contractor. Copies may be purchased from the Commission's duplicating contractor, Qualex International, Portals II, 445 12th Street, SW., Room CY-B402, Washington, DC, telephone (202) 863-2893, facsimile (202) 863-2898, or via e-mail qualexint@aol.com. Additionally, the complete item is available on the Commission's Web site at http://www.fcc.gov/wtb.

Synopsis of the FNPRM

1. In this FNPRM, the Commission seeks comment on whether providers of various services and devices not currently within the scope of the Commission's 911 rules should, consistent with the public interest, be required to provide access to emergency services. The Commission also asks what type of information, such as call-back and location should be delivered to Public Safety Answering Points (PSAPs) on a service-by-service basis.

2. Specifically, the Commission seeks comment on the general criteria that it wants commenters to use in analyzing whether the enumerated services and devices should be included within the scope of services that offer 911 service. The Commission proposes analyzing each service or product based on whether: (1) It offers real-time, two-way voice service that is interconnected to the public switched network on either a stand-alone basis or packaged with other telecommunications services; (2) the customers using the service or device have a reasonable expectation of access to 911 and E911 services; (3) the service competes with traditional CMRS or wireline local exchange services; and (4) it is technically and operationally feasible for the service or device to support E911.

3. The FNPRM then turns to the individual services on which the Commission seeks comment and raises additional questions where needed. The enumerated services are mobile satellite service, telematics service, multi-line telephone systems, resold cellular and PCS service, pre-paid calling, disposable mobile phones, automated maritime telecommunications systems, and other emerging services and devices, such as IP telephony.

Administrative Matters

Initial Regulatory Flexibility Analysis

4. As required by the Regulatory Flexibility Act, the Commission has prepared an Initial Regulatory Flexibility Analysis (IRFA) of the possible significant economic impact on small entities of the proposals suggested in this Further Notice of Proposed Rule Making. Written public comments are requested on the IRFA. These comments must be filed in accordance with the same filing deadlines as comments filed in this FNPRM, and must have a separate and distinct heading designating them as responses to the IRFA. This is a summary of the full text of the IRFA. The full text of the IRFA may be found at Appendix B of the full text of the FNPRM.

5. As required by the Regulatory Flexibility Act, as amended (RFA), the Commission has prepared this Initial Regulatory Flexibility Analysis (IRFA) of the possible significant economic impact on a substantial number of small entities by the policies and rules proposed in this Further Notice of Proposed Rulemaking (Further Notice), CC Docket No. 94-102 and IB Docket No. 99-67. Written public comments are requested on this IRFA. Comments must be identified as responses to the IRFA and must be filed by the deadlines for comments on the Further Notice. The Commission will send a copy of the Further Notice, including this IRFA, to the Chief Counsel for Advocacy of the Small Business Administration. See 5 U.S.C. 603(a). In addition, the Further Notice and IRFA (or summaries thereof) will be published in the Federal Register.

A. Need for, and Objectives of, the Proposed Rules

6. The Further Notice initiates a reevaluation of the scope of communications services that should provide access to emergency services. The Further Notice examines and seeks comment on the need to require compliance with the Commission's basic and enhanced 911 (E911) rules, or similar requirements, by various other mobile wireless and certain wireline voice and data services. The Further Notice considers whether existing services such as telematics or voice service provided by multi-line systems should be required to provide access to 911 service. The Further Notice also considers whether certain new services should be subject to any E911 requirements. The Further Notice additionally seeks comment on the impact that exclusion of these services and devices from the Commission's 911 rules may have on consumers, as well as the technological and cost issues involved in providing E911, taking into account the expectations of consumers for 911 service when they use these services and devices. The Further Notice of Proposed Rulemaking also seeks comment on a proposal to require mobile satellite service (MSS) providers (in particular, MSS providers offering real-time, interconnected two-way voice service) to establish emergency call centers to answer 911 emergency calls.

B. Legal Basis for Proposed Rules

7. The proposed action is authorized under Sections 1, 4(i), 7, 10, 201, 202, 208, 214, 222(d)(4)(A)-(C), 222(f), 222(g), 222(h)(1)(A), 222(h)(4)-(5), 251(e)(3), 301, 303, 308, 309(j), and 310 of the Communications Act of 1934, as amended, 47 U.S.C. 151, 154(i), 157, 160, 201, 202, 208, 214, 222(d)(4)(A)-(C), 222(f), 222(g), 222(h)(1)(A), 222(h)(4)-(5), 251(e)(3), 301, 303, 308, 309(j), 310.

C. Description and Estimate of the Number of Small Entities To Which the Proposed Rules Will Apply

8. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under Section 3 of the Small Business Act. Under the Small business Act, a “small business concern” is one that: (1) Is independently owned and operated; (2) is not dominant in its field of operation; and (3) satisfies any additional criteria established by the Small Business Administration (SBA). A small organization is generally “any not-for-profit enterprise which is independently owned and operated and is not dominant in its field.” Nationwide, as of 1992, there were approximately 275,801 small organizations.

9. The definition of “small governmental jurisdiction” is one with populations of fewer than 50,000. There are 85,006 governmental entities in the nation. This number includes such entities as states, counties, cities, utility districts and school districts. There are no figures available on what portion of this number has populations of fewer than 50,00. However, this number includes 38,978 counties, cities and towns, and of those, 37,556, or ninety-six percent, have populations of fewer than 50,000. The Census Bureau estimates that this ratio is approximately accurate for all government entities. Thus, of the 85,006 governmental entities, we estimate that ninety-six percent, or about 81,600, are small entities that may be affected by our rules.

10. Individual voice services and devices that are examined as to appropriateness for 911 and E911 service provision include: mobile satellite service, telematics service, multi-line telephone systems, resold cellular and personnel communications service, pre-paid calling, disposable phone, automated maritime telecommunications systems, and emerging services and devices.

11. We have included small incumbent LECs in this RFA analysis. As noted above, a “small business” under the RFA is one that, inter alia, meets the pertinent small business size standard (e.g., a telephone communications business having 1,500 or fewer employees), and “is not dominant in its field of operation.” The SBA's Office of Advocacy contends that, for RFA purposes, small incumbent LECs are not dominant in their field of operation because any such dominance is not “national” in scope. We have therefore included small incumbent LECs in this RFA analysis, although we emphasize that this RFA action has no effect on the Commission's analyses and determinations in other, non-RFA contexts.

12. Incumbent Local Exchange Carriers. Neither the Commission nor the SBA has developed a specific small business size standard for providers of incumbent local exchange services. The closest applicable size standard under the SBA rules is for Wired Telecommunications Carriers. Under that standard, such a business is small if it has 1,500 or fewer employees. According to the FCC's Telephone Trends Report data, 1,329 incumbent local exchange carriers reported that they were engaged in the provision of local exchange services. Of these 1,329 carriers, an estimated 1,024 have 1,500 or fewer employees and 305 have more than 1,500 employees. Consequently, we estimate that the majority of providers of local exchange service are small entitles that may be affected by the rules and policies adopted herein.

13. Competitive Local Exchange Carriers. Neither the Commission nor the SBA has developed a specific small business size standard for providers of competitive local exchange services. The closest applicable size standard under the SBA rules is for Wired Telecommunications Carriers. Under that standard, such a business is small if it has 1,500 or fewer employees. According to the FCC's Telephone Trends Report data, 532 companies reported that they were engaged in the provision of either competitive access provider services or competitive local exchange carrier services. Of these 532 companies, an estimated 411 have 1,500 or fewer employees and 121 have more than 1,500 employees. Consequently, the Commission estimates that the majority of providers of competitive local exchange service are small entities that may be affected by the rules.

14. Competitive Access Providers. Neither the Commission nor the SBA has developed a specific size standard for competitive access providers (CAPS). The closest applicable standard under the SBA rules is for Wired Telecommunications Carriers. Under that standard, such a business is small if it has 1,500 or fewer employees. According to the FCC's Telephone Trends Report data, 532 CAPs or competitive local exchange carriers and 55 other local exchange carriers reported that they were engaged in the provision of either competitive access provider services or competitive local exchange carrier services. Of these 532 competitive access providers and competitive local exchange carriers, an estimated 411 have 1,500 or fewer employees and 121 have more than 1,500 employees. Of the 55 other local exchange carriers, an estimated 53 have 1,500 or fewer employees and 2 have more than 1,500 employees. Consequently, the Commission estimates that the majority of small entity CAPS and the majority of other local exchange carriers may be affected by the rules.

15. Local Resellers. The SBA has developed a specific size standard for small businesses within the category of Telecommunications Resellers. Under that standard, such a business is small if it has 1,500 or fewer employees. According to the FCC's Telephone Trends Report data, 134 companies reported that they were engaged in the provision of local resale services. Of these 134 companies, an estimated 131 have 1,500 or fewer employees and 3 have more than 1,500 employees. Consequently, the Commission estimates that the majority of local resellers may be affected by the rules.

16. Toll Resellers. The SBA has developed a specific size standard for small businesses within the category of Telecommunications Resellers. Under that SBA definition, such a business is small if it has 1,500 or fewer employees. According to the FCC's Telephone Trends Report data, 576 companies reported that they were engaged in the provision of toll resale services. Of these 576 companies, an estimated 538 have 1,500 or fewer employees and 38 have more than 1,500 employees. Consequently, the Commission estimates that a majority of toll resellers may be affected by the rules.

17. Interexchange Carriers. Neither the Commission nor the SBA has developed a specific size standard for small entities specifically applicable to providers of interexchange services. The closest applicable size standard under the SBA rules is for Wired Telecommunications Carriers. Under that standard, such a business is small if it has 1,500 or fewer employees. According to the FCC's Telephone Trends Report data, 229 carriers reported that their primary telecommunications service activity was the provision of interexchange services. Of these 229 carriers, an estimated 181 have 1,500 or fewer employees and 48 have more than 1,500 employees. Consequently, we estimate that a majority of IXCs may be affected by the rules.

18. Operator Service Providers. Neither the Commission nor the SBA has developed a specific size standard for small entities specifically applicable to operator service providers. The closest applicable size standard under the SBA rules is for Wired Telecommunications Carriers. Under that standard, such a business is small if it has 1,500 or fewer employees. According to the FCC's Telephone Trends Report data, 22 companies reported that they were engaged in the provision of operator services. Of these 22 companies, an estimated 20 have 1,500 or fewer employees and two have more than 1,500 employees. Consequently, the Commission estimates that a majority of local resellers may be affected by the rules.

19. Prepaid Calling Card Providers. The SBA has developed a size standard for small businesses within the category of Telecommunications Resellers. Under that size standard, such a business is small if it has 1,500 or fewer employees. According to the FCC's Telephone Trends Report data, 32 companies reported that they were engaged in the provision of prepaid calling cards. Of these 32 companies, an estimated 31 have 1,500 or fewer employees and one has more than 1,500 employees. Consequently, the Commission estimates that a majority of prepaid calling providers may be affected by the rules.

20. Mobile Satellite Service Carriers. Neither the Commission nor the U.S. Small Business Administration has developed a small business size standard specifically for mobile satellite service licensees. The appropriate size standard is therefore the SBA standard for Satellite Telecommunications, which provides that such entities are small if they have $12.5 million or less in annual revenues. Currently, nearly a dozen entities are authorized to provide voice MSS in the United States. We have ascertained from published data that four of those companies are not small entities according to the SBA's definition, but we do not have sufficient information to determine which, if any, of the others are small entities. We anticipate issuing several licenses for 2 GHz mobile earth stations that would be subject to the requirements we are adopting here. We do not know how many of those licenses will be held by small entities, however, as we do not yet know exactly how many 2 GHz mobile-earth-station licenses will be issued or who will receive them. The Commission notes that small businesses are not likely to have the financial ability to become MSS system operators because of high implementation costs, including construction of satellite space stations and rocket launch, associated with satellite systems and services. Still, we request comment on the number and identity of small entities that would be significantly impacted by the proposed rule changes.

21. Other Toll Carriers. Neither the Commission nor the SBA has developed a specific size standard for small entities specifically applicable to “Other Toll Carriers.” This category includes toll carriers that do not fall within the categories of interexchange carriers, operator service providers, prepaid calling card providers, satellite service carriers, or toll resellers. The closest applicable size standard under the SBA rules is for Wired Telecommunications Carriers. Under that standard, such a business is small if it has 1,500 or fewer employees. According to the FCC's Telephone Trends Report data, 42 carriers reported that they were engaged in the provision of “Other Toll Services.” Of these 42 carriers, an estimated 37 have 1,500 or fewer employees and five have more than 1,500 employees. Consequently, the Commission estimates that a majority of “Other Toll Carriers” may be affected by the rules.

22. Wireless Service Providers. The SBA has developed a size standard for small businesses within the two separate categories of Cellular and Other Wireless Telecommunications or Paging. Under that standard, such a business is small if it has 1,500 or fewer employees. According to the FCC's Telephone Trends Report data, 1,761 companies reported that they were engaged in the provision of wireless service. Of these 1,761 companies, an estimated 1,175 have 1,500 or fewer employees and 586 have more than 1,500 employees. Consequently, we estimate that a majority of wireless service providers may be affected by the rules.

D. Description of Projected Reporting, Recordkeeping, and Other Compliance Requirements for Small Entities

23. The reporting, recordkeeping, or other compliance requirements ultimately adopted will depend on the rules adopted and the services subject to those rules. First, any and all of the affected entities who the Commission finds appropriate to provide 911 and E911 services (See General Criteria, for example, in paragraphs 12-15 of the Further Notice) would need to comply with the Commission's basic or enhanced 911 rules. This would involve a schedule for implementing 911 and E911 service, and possibly regulations mandating the provision of automatic number identification (ANI), possible software modification to assist in recognition of single or multiple emergency numbers, and provision of automatic location information (ALI) and interference precautions as well as regulations specific to individual services. Additionally, paragraphs 17-27 of the Further Notice propose that all Mobile Satellite Service (MSS) licensees provide real-time, two-way, switched voice service that is interconnected with the public switched network establish national call centers to which all subscriber emergency calls are routed. Call center personnel, and would then determine the nature of the emergency and forward the call to an appropriate Public Safety Answering Point (PSAP). As noted in paragraph 14 of the Further Notice, the Commission invites comment on how the various services at issue, i.e. individual voice services and devices, relate to the provision of access to emergency services for persons with disabilities. (Paragraph 14 of the Further Notice.)

24. The Further Notice, in paragraphs 57-80, considers possible 911 and E911 regulation for the telematics service. Telematics can be generally defined as the integrated use of location technology and wireless communication to enhance the functionality of motor vehicles. In that regard, paragraphs 65-73 of the Further Notice analyzes the plus and minuses and prospective regulations associated with telematics systems providing access to PSAPs through an intermediary or jointly packaged mobile voice service. Paragraph 70, suggests that telematics systems give notice to consumers regarding any current limitations of telematics service in directly transmitting emergency information to a PSAP. Paragraphs 74-75 suggest a requirement that telematics providers deliver automatic crash notification data to PSAPs This requirement raises possible issues of technical modifications and coordination between telematics providers and PSAPs.

25. The Further Notice, in paragraphs 81-91, examines whether to require multi-line telephone systems, including wireline, wireless, and Internet Protocol-based systems, to deliver call-back and location information. Possible requirements that the Further Notice suggests if the Commission decides that multi-line telephones systems should provide these services include technical standards as discussed in paragraphs 86-90 of the Further Notice. Paragraphs 92-97 of the Further Notice discuss issues that arise when consumers buy service from carriers and other service providers that resell minutes of use on facilities-based wireless carriers' networks. In that regard, the Further Notice raises the possibility of requiring the underlying facilities-based licensee to ensure that its resellers offer basic and E911 service compatible with its method of providing these services, or whether the resellers should be held accountable. Similarly, paragraphs 98-102 seek comment on whether the Commission should impose E911 requirements directly on pre-paid calling providers that are not also licensees or whether the underlying licensee should be required to ensure compliance with the E911 rules by the pre-paid calling provider.

26. Paragraphs 103-106 of the Further Notice discuss the possibility of access to emergency service by consumers who purchase disposable mobile handsets. In this case, the Further Notice notes that disposable handsets are a new product offering and as such, the Commission has little information on these devices. However, the Further Notice invites comment on whether, if disposable phone service is determined to be appropriate for offering 911 and E911 services, requiring mobile wireless service providers to ensure that the handsets used to access their networks comply with the 911 and E911 rules is sufficient or whether the Commission should place the burden for compliance on manufacturers of these handsets. If it is also determined that these handsets do not provide PSAPs with an opportunity to contact the handset user for further critical location information if necessary, some time of regulatory solution, such as a readily identifiable code to notify the PSAP that the incoming call is placed from a handset which does not offer call-back capability, could be adopted. The Further Notice also seeks comment on whether to extend 911 and E911 regulation to automated maritime telecommunications systems (paragraphs 107-110) and to emerging voice services and devices (paragraphs 111-115).

27. Other regulations and requirements are possible for those services discussed in the Further Notice found suitable for 911 and E911 service. Such rules and requirements could be found appropriate, based on comment filed in response to the Further Notice and would be designed to meet the consumer needs and licensee situations in each service and service area.

E. Steps Taken to Minimize Significant Economic Impact on Small Entities, and Significant Alternatives Considered

28. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

29. The critical nature of the 911 and E911 proceedings limit the Commission's ability to provide small carriers with a less burdensome set of E911 regulations than that placed on large entities. A delayed or less than adequate response to an E911 call can be disastrous regardless of whether a small carrier or a large carrier is involved. The various licensees scrutinized in the Further Notice have been exempt to date from the Commission's 911 and E911 regulations as the Commission sought information from which to judge the appropriateness of requiring that those services provide 911 and E911 service. The Further Notice continues this examination and reflects the Commission's concern that only those entities that can reasonably be expected to provide emergency services, financially and otherwise, be asked to provide this service. The Further Notice affords small entities another opportunity to comment on the appropriateness of the affected services providing emergency services and on what the Commission can due to minimize the regulatory burden on those entities who meet the Commission's criteria for providing such service.

30. Throughout the Further Notice, the Commission tailors its request for comment to devise a prospective regulatory plan for the affected entities, emphasizing the individual needs of the service providers and manufacturers as well as the critical public safety needs at the core of this proceeding. The Commission will consider all of the alternatives contained not only in the Further Notice, but also in the resultant comments, particularly those relating to minimizing the effect on small businesses.

31. The most obvious alternatives raised in the Further Notice are whether the services under discussion should be required to comply with the Commission's basic and enhanced 911 rules or whether the Commission should continue to exempt these entities from providing this service. The Further Notice, to assist in this discussion, suggests, in paragraphs 12-15, criteria to determine the appropriateness of each service under consideration to provide emergency services. These criteria are open for comment and this provides an excellent opportunity for small entity commenters and others concerned with small entity issues. Again, we seek comment to determine the appropriate service groups to provide critical services.

32. Along these lines, discussion of criteria and alternatives could focus on implementation schedules. In discussing each of the prospective entities and soliciting further information, throughout the Further Notice the Commission invites comment on the schedule for implementing 911 and E911 services which best meets the abilities, technically and financially suitable to the individual entities. In the past, the Commission has best been able to offer affected small and rural entities some relief from E911 by providing small entities with longer implementation periods than larger, more financially flexible entities that are better able to buy the equipment necessary to successful 911 and E911 implementation and to first attract the attention of equipment manufacturers.

33. In its discussion of MSS, the Further Notice recognizes that satellite carriers face unique technical difficulties in implementing both basic and enhanced 911 features. Thus, in paragraphs 22-26, the Further Notice examines the use of call centers in response to this problem. Paragraph 25 of the Further Notice notes that several commenters, thus far, have indicated that MSS callers tend to be located in remote areas where no PSAP may be available. The Further Notice suggests alternative solutions to this problem noting that, in the context of the 911 Act proceeding, stating that in areas where no PSAP has been designated, carriers still have an obligation not to block 911 calls and clarifying where such calls can be directed when no designated PSAP exists. There are a number of alternatives raised in the Further Notice in discussing the specifics of the calling center alternative. For example, should the Commission require carriers to relay automatically available location information to emergency call centers, and what reasonably achievable accuracy standards could be established for this location information?

34. Paragraphs 30-32 of the Further Notice recognize that high costs are associated with modifying satellite network infrastructures to accommodate E911 emergency call information and route it to appropriate PSAPs. These paragraphs discuss alternate solutions suggested in the comments to date, and request further comment aimed at reducing such costs. For example, some carriers argue that network modifications are necessary to forward ANI and ALI data, such as retrofitting switches throughout the network and making costly private trunking arrangements between earth stations and PSAPs. One commenter suggested that the retrofit costs could be reduced if (1) a single, central emergency call service could receive calls for the nation, or (2) each of the 50 states has a single point of emergency contact. Additionally, in paragraphs 35-41, the Further Notice considers alternatives for providing ALI. The Further Notice discusses a Coast Guard recommendation that the Commission require strict ALI accuracy standards for GMPCS. There are a number of issues and alternatives relating to the need for GPS that could conceivably impact small entities.

35. The Further Notice, in paragraphs 49-54, discusses international issues connected to MSS. The Further Notice seeks comment on a number of related alternatives, including whether resolution of international standards should in any way further delay adoption of a call center requirement or E911 rules for MSS, and on liability issues in connection with recognition of multiple emergency access codes. Finally, in regards to possible MSS emergency service requirements, the Further Notice, in paragraph 55, considers integration of the Ancillary Terrestrial Component.

36. In considering possible 911 and E911 regulation for telematics systems, the Further Notice, in paragraphs 64-71, questions whether a telematics call-center approach to 911 calls might be more appropriate that an approach based solely on 911 calls placed through a jointly packaged mobile voice service. Paragraphs 74-75 of the Further Notice weigh the benefits and costs involved in requiring telematics providers to deliver automatic crash notification data to PSAPs. Further, paragraph 80 of the Further Notice considers whether the Commission's legal authority might lead it to impose requirements directly on telematics providers or equipment manufacturers.

37. The Further Notice, in paragraphs 81-91, examines potential 911 and E911 requirements for multi-line telephone systems. In that regard, the Commission considers whether to impose such regulations on a national basis or whether it is sufficient to rely on actions by state and local governments, associations, and private entities to ensure reliable coverage. The National Emergency Number Association, for example, has proposed model legislation what would allow states, through state legislation, to adopt many of the standards and protocol associated with delivering E911 services through multi-line systems. Paragraph 89 of the Further Notice looks at an E911 consensus group proposal regarding multi-line systems and delivery of call-back and location information to an appropriate PSAP. The Further Notice again questions whether it would be more appropriate to regulate equipment manufacturers in the multi-line context.

38. In considering possible basic and enhanced 911 requirements for resold cellular and personal communications services, the Further Notice, in paragraphs 92-97, weighs whether to impose a more express obligation on either the reseller or the underlying licensee to ensure compliance with the E911 rules.

F. Federal Rules that Overlap, Duplicate, or Conflict with the Proposed Rules

39. None.

Paperwork Reduction Analysis

40. The FNPRM contains proposed information collections. The Commission will open a period for public comment in the Federal Register at the time a final decision on which services will no longer be exempt from 911 and E911 requirements. These comments will be considered before the final rules become effective. The Commission will also seek OMB approval for whatever PRA burdens are adopted as final rules at the same time.

Ex Parte Presentations

41. This is a permit-but-disclose notice and comment rule making proceeding. Members of the public are advised that ex parte presentations are permitted, except during the Sunshine Agenda period, provided they are disclosed under the Commission's Rules. See generally 47 CFR 1.1202, 1.1203, 1.1206(a).

Comment Dates

42. Pursuant to §§ 1.415 and 1.419 of the Commission's Rules, 47 CFR 1.415 and 1.419, interested parties may file comments on or before February 3, 2003 and reply comments on or before February 28, 2003. Comments may be filed using the Commission's Electronic Comment Filing System (ECFS) or by filing paper copies. 63 FR. 24121, 1998.

43. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rule making number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

44. Parties who choose to file by paper must file an original and four copies of each filing. If more than one docket or rule making number appear in the caption of this proceeding, commenters must submit two additional copies for each additional docket or rule making number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission. Comments and reply comments will be available for public inspection during regular business hours in the FCC Reference Center of the Federal Communications Commission, Room TW-A306, 445 12th Street, SW., Washington, DC 20554.

45. Parties who choose to file by paper should also submit their comments on diskette. These diskettes should be submitted to the Commission's Secretary, Marlene H. Dortch, Office of the Secretary, Federal Communications Commission. The Commission's contractor, Vistronix, Inc., will receive hand-delivered or messenger-delivered diskette filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to: 445 12th Street, SW., Washington, DC 20554. All filings must be addressed to the Commission's Secretary, Office of the Secretary, Federal Communications Commission. Such a submission should be on a 3.5-inch diskette formatted in an IBM compatible format using Word for Windows or compatible software. The diskette should be accompanied by a cover letter and should be submitted in “read only” mode. The diskette should be clearly labeled with the commenter's name, the docket number of this proceeding, type of pleading (comment or reply comment), date of submission, and the name of the electronic file on the diskette. The label should also include the following phrase “Disk Copy—Not an Original.” Each diskette should contain only one party's pleading, preferably in a single electronic file. In addition, commenters must send diskette copies to the Commission's copy contractor, Qualex International, Portals II, 445 12th Street, SW., Room CY-B402, Washington, DC 20554.

46. Alternative formats (computer diskette, large print, audio cassette and Braille) are available to persons with disabilities by contacting Martha Contee at (202) 418-0260, TTY (202) 418-2555, or via e-mail to mcontee@fcc.gov. This Further Notice of Proposed Rulemaking can also be downloaded at http://www.fcc.gov.

Ordering Clauses

47. This Further Notice of Proposed Rulemaking is adopted, pursuant to Sections 4(i), 7(a), 303(b), 303(f), 303(g), and 303(r) of the Communications Act of 1934, as amended, 47 U.S.C. 151, 154(i), 157(a), 303(b), 303(f), 303(g), and 303(r).

Federal Communications Commission.
Marlene H. Dortch,
Secretary.

[FR Doc. 03-1458 Filed 1-22-03; 8:45 am]

BILLING CODE 6712-01-P